Proclamation 8865 of September 14, 2012

National Farm Safety and Health Week, 2012

By the President of the United States of America

A Proclamation

From producing America's food, fuel, and fiber to advancing clean, homegrown energy solutions, farmers and ranchers play an essential role in driving our country's progress. They keep our economy moving forward, and as important stewards of our environment, they help conserve our lands, protect our wildlife, and safeguard our waters for future generations. During National Farm Safety and Health Week, we celebrate agricultural workers' vital contributions and reaffirm our commitment to keeping them safe on the job.

Farmers and ranchers put in long hours to accomplish difficult tasks—rain or shine. Many operate heavy machinery, handle livestock, and work under hazardous conditions. Because the demands of the job put agricultural workers at high risk of illness and injury, appropriate training and education are critical. I encourage all farming and ranching families to participate in farm safety and health programs, remain aware of the hazards of their working environment, and carry out safe practices every step of the way—from equipment inspection to handling hazardous materials.

Our Nation's rural communities give America its heartbeat. They are home to producers who rise before the dawn, entrepreneurs who bring ideas to market, and working men and women who build the American dream with their bare hands. This week, we honor their tireless efforts and rededicate ourselves to equipping our next generation with the knowledge and training they need to stay safe and healthy.

NOW, THEREFORE, I, BARACK OBAMA, President of the United States of America, by virtue of the authority vested in me by the Constitution and the laws of the United States, do hereby proclaim September 16 through September 22, 2012, as National Farm Safety and Health Week. I call upon the agencies, organizations, businesses, and extension services that serve America's agricultural workers to strengthen their commitment to promoting farm safety and health programs. I also urge Americans to honor our agricultural heritage and express appreciation to our farmers, ranchers, and farm-workers for their contributions to our Nation.

IN WITNESS WHEREOF, I have hereunto set my hand this fourteenth day of September, in the year of our Lord two thousand twelve, and of the Independence of the United States of America the two hundred and thirty-seventh.

[FR Doc. 2012-23299

Filed 9-18-12; 11:15 am]

Billing code 3295-F2-P